DEPARTMENT OF COMMERCE

National Oceanic and Atmospheric Administration

[I.D. 051905B]

Endangered Species; Permit No. 1258

AGENCY: National Marine Fisheries Service (NMFS), National Oceanic and Atmospheric Administration (NOAA), Commerce.

ACTION: Issuance of permit modification.

SUMMARY: Notice is hereby given that a request for modification to an enhancement permit No. 1258 submitted by the North Carolina Zoological Park, 4401 Zoo Parkway, Asheboro, NC 27203 (David M. Jones, Principal Investigator), has been granted.

ADDRESSES: The modification and related documents are available for review upon written request or by appointment in the following office(s):

Permits, Conservation and Education Division, Office of Protected Resources, NMFS, 1315 East-West Highway, Room 13705, Silver Spring, MD 20910, phone (301) 713-2289, fax (301) 427-2521; and

Southeast Region, NMFS, 263 13th Avenue South, Saint Petersburg, FL 33701, phone (727) 824-5312, fax (727) 824-5300.

FOR FURTHER INFORMATION CONTACT: Jennifer Jefferies or Amy Sloan (301)713-2289.

SUPPLEMENTARY INFORMATION: The requested modification has been granted under the authority of the Endangered Species Act of 1973, as amended (ESA; 16 U.S.C. 1531 et seq.) and the provisions of § 222.306 of the regulations governing the taking, importing, and exporting of endangered and threatened fish and wildlife (50 CFR 222-226).

The North Carolina Zoological Park is authorized to use four individual, captive-bred, non-releaseable shortnose sturgeons for an educational display exhibit. This project of displaying endangered captive bred shortnose sturgeon responds directly to a recommendation of the NMFS recovery outline for this species. This display educates the public on shortnose sturgeon life history and the reason for its declining numbers. This modification will extend the permit through July 31, 2006.

Issuance of this modification, as required by the ESA was based on a finding that this permit modification: (1) Was applied for in good faith; (2) will not operate to the disadvantage of the endangered species which is the subject of this permit; and (3) is consistent with the purposes and policies set forth in section 2 of the ESA.

Dated: May 24, 2005.
Stephen L. Leathery,
Chief, Permits, Conservation and Education Division, Office of Protected Resources, National Marine Fisheries Service.

[FR Doc. 05-11107 Filed 6-2-05; 8:45 am]

BILLING CODE 3510-22-S